DEPARTMENT OF ENERGY

Federal Energy Regulatory Commission

[Docket No. IC09-914-000]

Commission Information Collection Activities (FERC-914); Comment Request; Extension

March 30, 2009.

AGENCY: Federal Energy Regulatory Commission.

ACTION: Notice of proposed information collection and request for comments.

SUMMARY: In compliance with the requirements of section 3506(c)(2)(a) of the Paperwork Reduction Act of 1995 (Pub. L. 104-13), the Federal Energy Regulatory Commission (Commission or FERC) is soliciting public comment on the specific aspects of the information collection described below.

DATES: Comments on the collection of information are due June 1, 2009.

ADDRESSES: Comments may be filed either electronically or in paper format, and should refer to Docket No. IC09-914-000. Documents must be prepared in an acceptable filing format and in compliance with Commission submission guidelines at http://www.ferc.gov/help/submission-guide.asp.

Comments may be eFiled. The eFiling option, under the Documents & Filings tab on the Commission's home Web page (http://www.ferc.gov), directs users to the eFiling Web page. First-time users follow the eRegister instructions on the eFiling Web page to establish a user name and password before eFiling. Filers will receive an e-mailed confirmation of their filed comments. Commenters filing electronically should not make a paper filing. If electronic filing is not possible, deliver original and 14 paper copies of the filing to: Federal Energy Regulatory Commission, Secretary of the Commission, 888 First Street, NE., Washington, DC 20426.

Parties interested in receiving automatic notification of activity in this docket may do so through eSubscription. The eSubscription option under the Documents & Filings tab on the Commission's home Web page directs users to the eSubscription Web page. Users submit the docket numbers of the filings they wish to track and will subsequently receive an e-mail notification each time a filing is made under the submitted docket numbers. First-time users will need to establish a user name and password before eSubscribing.

Filed comments and FERC issuances may be viewed, printed and downloaded remotely from the Commission's Web site. The eLibrary link found at the top of most of the Commission's Web pages directs users to FERC's eLibrary. From the eLibrary Web page, choose General Search, and in the Docket Number space provided, enter IC09-914 then click the Submit button at the bottom of the page. For help with any of the Commission's electronic submission or retrieval systems, e-mail FERC Online Support: ferconlinesupport@ferc.gov, or telephone toll-free: (866) 208-3676 (TTY (202) 502-8659).

FOR FURTHER INFORMATION CONTACT: Ellen Brown may be reached by telephone at (202) 502-8663, by fax at (202) 273-0873, and by e-mail at ellen.brown@ferc.gov.

SUPPLEMENTARY INFORMATION: FERC is requesting comments on the FERC-914,¹ “Cogeneration and Small Power Production—Tariff Filings”, OMB Control No. 1902-0231. The information filed in FERC-914 enables the Commission to exercise its wholesale electric rate and electric power transmission oversight and enforcement responsibilities in accordance with the Federal Power Act, the Department of Energy Organization Act (DOE Act) and EPAct 2005.

¹ Normally, these requirements and burden would be included in FERC-516, “Electric Rate Schedule Filings” (OMB Control No.1902-0096). However, FERC-516 is currently the subject of OMB review, so the Commission will continue to track these requirements (and the related burden hours) separately under FERC-914 [formerly labeled “FERC-914(516)”]. FERC-914 covers the tariff filing requirements under 18 CFR Part 35 for those qualifying facilities that do not meet the exemption requirements in 18 CFR Part 292.

In the future, FERC plans to incorporate the FERC-914 reporting requirements and related burden into the FERC-516.

In Orders 671 and 671-A,² the Commission revised its regulations that govern qualifying small power production and cogeneration facilities. Among other things, the Commission eliminated certain exemptions from rate regulation that were previously available to qualifying facilities (QFs). New qualifying facilities may need to make tariff filings if they do not meet the new exemption requirements of 18 CFR Part 292.

² Revised Regulations Governing Small Power Production and Cogeneration Facilities, Order No. 671, 71 FR 7852 (Feb. 15, 2006), FERC Stats. & Regs. ¶ 31,203 (2006); and Revised Regulations Governing Small Power Production and Cogeneration Facilities, Order 671-A, 71 FR 30585 (May 30, 2006), in Docket No. RM05-36.

Section 205(c) of the FPA requires that every public utility have all of its jurisdictional rates and tariffs on file with the Commission and make them available for public inspection, within such time and in such form as the Commission may designate. Section 205(d) of the FPA requires that every public utility must provide notice to FERC and the public of any changes to its jurisdictional rates and tariffs, file such changes with FERC, and make them available for public inspection, in such manner as directed by the Commission. In addition, FPA section 206 requires FERC, upon complaint or its own motion, to modify existing rates or services that are found to be unjust, unreasonable, unduly discriminatory or preferential. FPA section 207 further requires the Commission upon complaint by a state commission and a finding of insufficient interstate service, to order the rendering of adequate interstate service by public utilities, the rates for which would be filed in accordance with FPA sections 205 and 206.

FERC implemented the Congressional mandate of EPAct 2005 to establish criteria for new qualifying cogeneration facilities by: (1) Amending the exemptions available to qualifying facilities from the FPA and from PUHCA [resulting in the burden imposed by FERC-914, the subject of this Notice]; (2) ensuring that these facilities are using their thermal output in a productive and beneficial manner; that the electrical, thermal, chemical and mechanical output of new qualifying cogeneration facilities is used fundamentally for industrial, commercial, residential or industrial purposes; and there is a continuing progress in the development of efficient electric energy generating technology; (3) amending the FERC Form 556 ³ to reflect the criteria for new qualifying cogeneration facilities; and (4) eliminating ownership limitations for qualifying cogeneration and small power production facilities. FERC satisfied the statutory mandate and its continuing obligation to review its policies encouraging cogeneration and small power production, energy conservation, efficient use of facilities and resources by electric utilities and equitable rates for energy customers.

³ The FERC-556 is cleared separately as OMB Control No. 1902-0075 and is not a subject of this Notice.

Action: The Commission is requesting a three-year extension of the current expiration date for the FERC-914,¹ with no changes to the reporting requirements.

Burden Statement: Public reporting burden for this collection is estimated at:

FERC data collection—FERC-914 | Number of respondents annually | Number of responses per respondent | Average burden hours per response | Total annual burden hours
| (1) | (2) | (3) | (1) × (2) × (3)
FPA Section 205 filings | 100 | 1 | 183 | 18,300
Electric quarterly reports (initial) | 100 | 1 | 230 | 23,000
Electric quarterly reports (later) | 100 | 3 | 6 | 1,800
Change of status | 100 | 1 | 3 | 300
Total |  |  |  | 43,400

The estimated total annual cost to respondents is $2,676,966.10 [43,400 hours divided by 2,080 hours ⁴ per year, times $128,297 ⁵ equals $2,676,966.10]. The cost per respondent is $26,769.66. The estimated burden covers the qualifying facilities required to file electric quarterly reports, change of status filings, and tariff filings to comply with section 205 of the Federal Power Act (FPA).

⁴ Number of hours an employee works each year.

⁵ Average annual salary per employee.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g. permitting electronic submission of responses.

Kimberly D. Bose,
Secretary.

[FR Doc. E9-7574 Filed 4-3-09; 8:45 am]

BILLING CODE